DEPARTMENT OF THE TREASURY

Bureau of Alcohol, Tobacco and Firearms

Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Bureau of Alcohol, Tobacco and Firearms within the Department of the Treasury is soliciting comments concerning the Vendor Catalogs.

DATES: Written comments should be received on or before May 21, 2001 to be assured of consideration.

ADDRESSES: Direct all written comments to Bureau of Alcohol, Tobacco and Firearms, Linda Barnes, 650 Massachusetts Avenue, NW., Washington, DC 20226, (202) 927-7768.

FOR FURTHER INFORMATION CONTACT: Requests for additional information or copies of the form(s) and instructions should be directed to Michele Spencer, Acquisition Management Branch, 650 Massachusetts Avenue, NW., Washington, DC 20226, (202) 927-8820.

SUPPLEMENTARY INFORMATION: Title: Vendor Catalogs.

Form Number: ATF F 1413.1.

Abstract: ATF F 1413.1, Vendor Catalogs will be used for vendors to register their business with ATF and also provide catalogs, product line cards, capability statements and other marketing material to buyers and program offices. The form will eliminate the need for businesses to send many copies of this information by mail to the ATF Procurement Office.

Current Actions: ATF F 1413.1, Vendor Catalogs is a new information collection.

Type of Review: New.

Affected Public: Business or other for-profit, not-for-profit institutions.

Estimated Number of Respondents: 1,000.

Estimated Time Per Respondent: 3 minutes.

Estimated Total Annual Burden Hours: 50.

Request for Comments

Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: March 14, 2001.
William Earle,
Assistant Director (Management) CFO.

[FR Doc. 01-7009 Filed 3-20-01; 8:45 am]

BILLING CODE 4810-31-P